ADMINISTRATIVE CONFERENCE OF THE UNITED STATES

Committee on Administration and Management

AGENCY: Administrative Conference of the United States.

ACTION: Notice of public meeting.

SUMMARY: Notice is hereby given of a public meeting of the Committee on Administration and Management of the Assembly of the Administrative Conference of the United States. The meeting will provide an opportunity for the committee to continue its consideration of a draft recommendation regarding the Paperwork Reduction Act. Complete details regarding the committee meeting, the contours of the project, how to attend (including information about remote access and obtaining special accommodations for persons with disabilities), and how to submit comments to the committee can be found in the “About” section of the Conference's Web site, at http://www.acus.gov. Click on “About,” then on “The Committees,” and then on “Committee on Administration and Management.”

Comments may be submitted by email to Comments@acus.gov, with “Committee on Administration and Management” in the subject line, or by postal mail to “Committee on Administration and Management Comments” at the address given below.

ADDRESSES: The meeting will be held at 1120 20th Street NW., Suite 706 South, Washington, DC 20036.

FOR FURTHER INFORMATION CONTACT: Emily Schleicher Bremer, Designated Federal Officer, Administrative Conference of the United States, 1120 20th Street NW., Suite 706 South, Washington, DC 20036; Telephone 202-480-2080.

SUPPLEMENTARY INFORMATION:

Committee on Administration and Management

The Committee on Administration and Management will meet to continue its consideration of a draft recommendation on the Paperwork Reduction Act and proposed improvements to its implementation.

Date: Wednesday, May 2, 2012 from 1:30 p.m. to 4:30 p.m.

Dated: April 3, 2012.
Shawne C. McGibbon,
General Counsel.

[FR Doc. 2012-8369 Filed 4-5-12; 8:45 am]

BILLING CODE 6110-01-P